DEPARTMENT OF DEFENSE

Department of the Army; Corps of Engineers

Deauthorization of Water Resources Projects

AGENCY: Army Corps of Engineers, DoD.

ACTION: Notice of project deauthorizations.

SUMMARY: The U.S. Army Corps of Engineers is publishing the names of water resources projects that have been automatically deauthorized under the provisions of § 1001(b)(2), Public Law 99-662, as amended, 33 U.S.C 579a(b)(2).

FOR FURTHER INFORMATION CONTACT: Mr. Joseph W. Aldridge, Headquarters, U.S. Army Corps of Engineers, Attention: CECW-IP, Washington, DC 20314-1000. Tel. (202) 761-4130 or joseph.w.aldridge@usace.army.mil.

SUPPLEMENTARY INFORMATION: Section 1001(b)(2) of the Water Resources Development Act of 1986, Public Law 99-662, 100 Stat. 4082-4273, as amended, provides for the automatic deauthorization of water resource projects and separable elements of projects that are eligible for deauthorization under that section.

Section 1001(b)(2), 33 U.S.C. 579a(b)(2), requires the Secretary of the Army to annually submit to the Congress a list of unconstructed water resources projects and separable elements of projects for which no funds have been obligated for planning, design or construction during the preceding five full fiscal years. If no funds are obligated to a listed project by end of the fiscal year following the fiscal year in which the project was listed, then the project is automatically deauthorized. Notwithstanding these provisions, projects may be specifically deauthorized or reauthorized by law. (Note: The provision of § 1001(b)(2) prior to the 2007 amendments apply to this action.)

In accordance with section 1001(b)(2), in Fiscal Year (FY) 2010 the Assistant Secretary of the Army (Civil Works) submitted a list informing Congress of 11 projects and separable elements that would be subject to automatic deauthorization after September 30, 2011, and in FY 2011 submitted a list of 20 projects and separable elements that would be subject to automatic deauthorization after September 30, 2012, and in FY 2012 submitted a list of 2 projects and separable elements that would be subject to automatic deauthorization after September 30, 2013. Of the 33 projects and separable elements included in these three lists, all 33 were in fact automatically deauthorized, in accordance with section 1001(b)(2). The following three tables indicate the disposition of each of the 33 listed projects.

Table 1
[FY2010 Deauthorization List]
Corps district | Projects deauthorized on 01 October 2011 under Section 1001(b)(2) WRDA 1986, as amended | Primary state | Project purpose
MVM | CACHE RIVER BASIN, AR | AR | FC
MVM | LOWER WHITE RIVER, BIG CREEK & TRIBUTARIES, AR | AR | FC
SPL | CARNEROS CREEK, CA | CA | FC
SPN | NOYO RIVER AND HARBOR (BREAKWATER), CA | CA | NAV
LRH | LOGAN, OH | OH | FC
SAC | CHARLESTON HARBOR—SHIPYARD RIVER UPPER CHANNEL & UPPER TURNING BASIN, SC | SC | NAV
MVM | HARRIS FORK CREEK, TN & KY | TN | FC
MVM | NONCONNAH CREEK, ENVIRONMENTAL ENHANCEMENT, TN & MS | TN | ENR
MVM | NONCONNAH CREEK, RECREATION ELEMENT, TN & MS | TN | ENR
MVK | RED RIVER WATERWAY, SHREVEPORT, LA TO DAINGERFIELD, TX | TX | NAV
NAO | JAMES R OLIN FLOOD CONTROL PROJECT, VA (separable element) | VA | FC
| Total: 11

Table 2
[FY2011 Deauthorization List]
Corps district | Projects deauthorized on 01 October 2012 under Section 1001(b)(2) WRDA 1986, as amended | Primary state | Project purpose
SWF | ST GEORGE HARBOR, AK | AK | NAV
SWL | BEAVER DAM TROUT PRODUCTION, AR | AR | ENV
SWL | JOHN PAUL HAMMERSCHMIDT VISITOR CENTER, AR | AR |
SPL | SANTA MONICA BREAKWATER, CA | CA | NAV
LRL | OHIO RIVER ECOSYSTEM RESTORATION PROGRAM, KY | KY | ENV
NAP | DELAWARE RIVER, CHES AND DEL CANAL, DE & MD | MD | NAV
NAP | DELAWARE BAY COASTLINE, DE & NJ—OAKWOOD BEACH, NJ | NJ | FDR
SWT | PARKER LAKE, OK | OK | FDR
SAJ | RIO GRANDE DE LOIZA, PR | PR | FDR
SAJ | RIO GUANAJIBO, PR | PR | FDR
SWF | AF641-SHOAL CRK., AUSTIN TX | TX | FDR
SWG | ARROYO COLORADO, TX | TX | FDR
SWF | BIG SANDY LAKE,TX BA519 | TX | FDR
SWF | ELM FORK FLOODWAY, MD (BA511) | TX | FDR
SWF | FT WORTH STOCKYARDS, TARRANT CO, (BE129) | TX | FDR
SWF | LAKE WORTH, TX (AF653) | TX | FDR
SWF | MILLICAN LAKE, TX | TX | FDR
SWF | ROCKLAND LAKE,TX (AF664) | TX | FDR
SWF | SAN GABRIEL RIVER-SOUTH FORK, TX (BE257) | TX | FDR
SWF | SOMERVILLE LAKE BE273 | TX | FDR
| Total: 20

Table 3
[FY2012 Deauthorization List]
Corps district | Projects deauthorized on 01 October 2013 Under Section 1001(b)(2) WRDA 1986, as amended | Primary state | Project purpose
MVS | ST LOUIS HARBOR, MO AND IL | IL | NAV
LRB | OTTAWA RIVER HARBOR, OH | OH | NAV
| Total: 2

U.S. Army Corps Districts:

LRB Buffalo District

LRH Huntington District

LRL Louisville District

MVK Vicksburg District

MVM Memphis District

MVS St. Louis District

NAO Norfolk District

SAC Charleston District

SAJ Jacksonville District

SPL Albuquerque District

SPN Sacramental District

SWF Fort Worth District

SWG Galveston District

SWL Little Rock District

NAP Philadelphia District

SWT Tulsa District

Authorized Project Purposes:

ENR Aquatic Ecosystem Restoration

ENV Environment

FC Flood Control

FDR Flood Damage Reduction

NAV Navigation

Authority: This notice is required by the Water Resources Development Act of 1986, Public Law 99-662, section 1001(c), 33 U.S.C. 579a(c).

Dated: July 21, 2016.
Jo-Ellen Darcy,
Assistant Secretary of the Army (Civil Works).

[FR Doc. 2016-19020 Filed 8-9-16; 8:45 am]

BILLING CODE 3720-58-P